DEPARTMENT OF DEFENSE

Department of the Army, Corps of Engineers

Intent To Prepare an Environmental Impact Statement for the Central Everglades Planning Project, Okeechobee, Glades, Martin, Palm Beach, Broward, Miami-Dade and Monroe Counties, FL

AGENCY: Department of the Army, U.S. Army Corps of Engineers, DOD.

ACTION: Notice of intent.

SUMMARY: The Everglades ecosystem encompasses a system of diverse wetland landscapes that are hydrologically and ecologically connected across more than 200 miles from north to south and across 18,000 square miles of southern Florida. In 2000, the U.S. Congress authorized the Federal government, in partnership with the State of Florida, to embark upon a multi-decade, multi-billion dollar Comprehensive Everglades Restoration Plan (CERP) to further protect and restore the remaining Everglades ecosystem while providing for other water-related needs of the region. CERP involves modification of the existing network of drainage canals and levees that make up the Central and Southern Florida Flood Control Project.

Since 2000, much progress has been made. Construction has begun on the first generation of CERP project modifications already authorized by Congress. These include the Picayune Strand Restoration, the Indian River Lagoon South and Site 1 Impoundment projects. Project Implementation Reports have been completed, or are nearing completion, for the second generation of CERP projects for Congressional authorization, including Biscayne Bay Coastal Wetlands—Phase 1, the Broward County Water Preserve Areas, the Caloosahatchee River (C-43) West Basin Storage Reservoir, and the C-111 Spreader Canal Western Project. All of these CERP projects utilize lands that were acquired by the State and Federal government to meet CERP goals of increasing the extent of wetlands, reducing damaging freshwater discharges to the coastal estuaries, and reducing seepage losses from the natural system. These projects contribute significant ecological benefits to the system and the specific regional habitats in which they are located. These initial CERP projects were intended to provide initial and immediate ecological benefits and set the conditions along the margins of the system that help ensure increased water flows to the interior of the system will not cause adverse effects.

The next step for implementation of CERP is to redirect water that is currently discharged to the east and west coast estuaries from Lake Okeechobee and restore water flow to the south, allowing for restoration of natural habitat conditions and water flow in the central Everglades and re-connecting the ecosystem from Lake Okeechobee to Everglades National Park and Florida Bay. The Central Everglades Planning Project will develop the initial increment of project features that provide for storage, treatment and conveyance south of Lake Okeechobee, removal of canals and levees within Water Conservation Area 3 and seepage management features to retain water within the natural system. The CERP projects identified to accomplish this include the Everglades Agricultural Storage Reservoirs, Water Conservation Area 3 Decompartmentalization and Sheetflow Enhancement, Everglades National Park (ENP) Seepage Management, and Everglades Rain-Driven Operations. These projects make up the heart of CERP aimed at restoring more natural quantity, quality, timing and distribution of water flows to the remaining portions of the river of grass. An integrated study effort on these projects is needed to set the direction for the next decade of CERP implementation.

ADDRESSES: U.S. Army Corps of Engineers, Planning Division, Environmental Branch, P.O. Box 4970, Jacksonville, FL 32232-0019.

FOR FURTHER INFORMATION CONTACT: Dr. Gina Ralph at (904) 232-2336 or email at Gina.P.Ralph@usace.army.mil.

SUPPLEMENTARY INFORMATION: a. The goal of the Central Everglades Planning Project effort would be to develop an integrated, comprehensive technical plan, including the first increment of projects, for delivering the right quantity, quality, timing and distribution of water needed to restore and reconnect the central Everglades ecosystem.

b. A scoping letter will be used to invite comments from Federal, State, and local agencies, affected Indian Tribes, and other interested private organizations and individuals.

c. A scoping meeting will be held December 14, 2011 from 6:30 to 9 p.m. at the Sheraton Suites Plantation, Plantation I/II Room, 311 North University Drive, Plantation, Florida and December 15, 2011 from 6:30 to 9 p.m. at the John Boy Auditorium, 1200 South W.C. Owen Avenue, Clewiston, FL. Assistance for individuals with special needs or language translation will be available as needed by calling (904) 232-1613.

d. All alternative plans will be reviewed under provisions of appropriate laws and regulations, including the Endangered Species Act, Fish and Wildlife Coordination Act, Clean Water Act, and Farmland Protection Policy Act.

e. The Draft Environmental Impact Assessment is expected to be available for public review in the 1st quarter of 2013.

Brenda S. Bowen,
Army Federal Register Liaison Officer.

[FR Doc. 2011-31010 Filed 12-1-11; 8:45 am]

BILLING CODE 3720-58-P